DEPARTMENT OF AGRICULTURE

Animal and Plant Health Inspection Service

9 CFR Part 161

[Docket No. APHIS-2006-0093]

RIN 0579-AC04

National Veterinary Accreditation Program; Currently Accredited Veterinarians Performing Accredited Duties and Electing To Participate

AGENCY: Animal and Plant Health Inspection Service, USDA.

ACTION: Final rule; technical amendment and announcement of end of period for election to participate.

SUMMARY: We are announcing to the public that veterinarians who are currently accredited in the National Veterinary Accreditation Program (NVAP) may continue to perform accredited duties and may elect to continue to participate in the NVAP until October 1, 2011. The regulations indicate that currently accredited veterinarians must elect to continue their participation in the NVAP in order to maintain their accredited status, after which we will confirm their continued participation and notify them of their first renewal date. A previous document announced that currently accredited veterinarians may continue to perform accredited duties until further notice, even if they have not received a date for their first accreditation renewal. That document stated that we would specify a date by which veterinarians would have to elect to participate in a subsequent document.

DATES: Effective Date: August 23, 2011.

FOR FURTHER INFORMATION CONTACT: Dr. Todd Behre, National Veterinary Accreditation Program, VS, APHIS, 4700 River Road Unit 200, Riverdale, MD 20737; (301) 851-3401.

SUPPLEMENTARY INFORMATION: The regulations in 9 CFR chapter I, subchapter J (parts 160 through 162, referred to below as the regulations), govern the accreditation of veterinarians and the suspension and revocation of such accreditation. These regulations are the foundation for the National Veterinary Accreditation Program (NVAP). Accredited veterinarians are approved by the Administrator of the Animal and Plant Health Inspection Service (APHIS), U.S. Department of Agriculture, to perform certain regulatory tasks to control and prevent the spread of animal diseases throughout the United States and internationally.

On December 9, 2009 (74 FR 64998-65013, Docket No. APHIS-2006-0093), we published a final rule in the Federal Register that amended the regulations to establish two accreditation categories in place of the former single category, to add requirements for supplemental training and renewal of accreditation, and to offer program certifications. The final rule was effective February 1, 2010, a date intended to give us time to prepare to implement the new regulations, which affect about 71,000 veterinarians who are currently accredited.

Section 161.3 of the final rule contained the requirements for supplemental training and renewal of accreditation. Because accredited veterinarians have not previously been required to renew their accreditation or complete supplemental training, we established in paragraph (d) of § 161.3 a process allowing currently accredited veterinarians to determine whether they wished to continue to participate in the NVAP.

Paragraph (d) of § 161.3 states that veterinarians who are accredited as of February 1, 2010, may continue to perform accredited duties between February 1, 2010, and the date of their first renewal. In accordance with paragraph (d), APHIS provided notice for 3 months to accredited veterinarians who were accredited as of February 1, 2010, to notify them that they must elect to participate in the NVAP as a Category I or Category II veterinarian. Paragraph (d) requires veterinarians to elect to continue to participate within 3 months of the end of the notification period, or their accredited status will expire.

Paragraph (d) of § 161.3 goes on to state that when APHIS receives notice from an accredited veterinarian that he or she elects to participate, APHIS will notify the accredited veterinarian of his or her date for first renewal. The accredited veterinarian must then complete all the training requirements for renewal, as described in § 161.3, by his or her first renewal date. The notification of the first renewal date was thus intended to be the means by which APHIS notifies an accredited veterinarian that we have received notice that he or she has elected to participate and can thus continue performing accredited duties.

In a notice published in the Federal Register and effective on September 28, 2010 (75 FR 59605-59606, Docket No. APHIS-2006-0093), we announced that currently accredited veterinarians may continue to perform accredited duties until further notice, even if they have not received a date for their first accreditation renewal from APHIS. We stated that we would also allow currently accredited veterinarians to continue to elect to participate in the NVAP. We took this action because logistical difficulties had prevented us from processing the elections to participate of all the currently accredited veterinarians (over 50,000) who elected to participate. We stated that, when we are closer to reaching the goal of processing those elections, we would publish another document in the Federal Register that would amend § 161.3(d) to indicate the date by which veterinarians must elect to continue to participate in the NVAP.

We have determined that setting a deadline of October 1, 2011, will allow adequate time for currently accredited veterinarians to elect to continue participating, if they wish to do so, and for us to process the elections to participate that we have received to this point and any further elections to participate that may be submitted by that date. Accordingly, this document amends § 161.3(d) to indicate that currently accredited veterinarians must elect to participate by October 1, 2011.

A Web seminar on the revisions to the NVAP and how to elect to participate is available at mms://ocbmtcwmp.usda.gov/content/aphis/aphis21.wmv.

List of Subjects in 9 CFR Part 161

Reporting and recordkeeping requirements, Veterinarians.

Accordingly, we are amending 9 CFR part 161 as follows:

PART 161—REQUIREMENTS AND STANDARDS FOR ACCREDITED VETERINARIANS AND SUSPENSION OR REVOCATION OF SUCH ACCREDITATION

1. The authority citation for part 161 continues to read as follows:

Authority: 7 U.S.C. 8301-8317; 15 U.S.C. 1828; 7 CFR 2.22, 2.80, and 371.4.

§ 161.3 [Amended]

2. In § 161.3, paragraph (d) is amended by removing the words “within 3 months of the end of the notification period” and adding the words “by October 1, 2011” in their place.

Done in Washington, DC, this 17th day of August 2011.
Gregory L. Parham,
Administrator, Animal and Plant Health Inspection Service.

[FR Doc. 2011-21526 Filed 8-22-11; 8:45 am]

BILLING CODE 3410-34-P